DEPARTMENT OF HOMELAND SECURITY

Coast Guard

33 CFR Part 117

[CGD08-05-033]

Drawbridge Operation Regulations; Pascagoula River, Pascagoula, MS

AGENCY: Coast Guard, DHS.

ACTION: Notice of temporary deviation from regulations.

SUMMARY: The Commander, Eighth Coast Guard District, has issued a temporary deviation from the regulation governing the operation of the CSX Transportation Railroad Bridge across the Pascagoula River, mile 1.5, at Pascagoula, Jackson County, Mississippi. This deviation allows the bridge to remain closed to navigation during the morning and afternoon time periods for four consecutive days. During the second day of the deviation, the bridge will remain closed to navigation continuously for ten hours. The deviation is necessary to repair the drive motor and associated hydraulic components of the draw span operating mechanism.

DATES: This deviation is effective from 8 a.m. on Monday June 13, 2005 until 6 p.m. on Thursday, June 16, 2005.

ADDRESSES: Materials referred to in this document are available for inspection or copying at the office of the Eighth Coast Guard District, Bridge Administration Branch, Hale Boggs Federal Building, room 1313, 500 Poydras Street, New Orleans, Louisiana 70130-3310 between 7 a.m. and 3 p.m., Monday through Friday, except Federal holidays. The telephone number is (504) 589-2965. The Bridge Administration Branch of the Eighth Coast Guard District maintains the public docket for this temporary deviation.

FOR FURTHER INFORMATION CONTACT: David Frank, Bridge Administration Branch, telephone (504) 589-2965.

SUPPLEMENTARY INFORMATION: The CSX Transportation Company has requested a temporary deviation in order to repair the main drive motor and associated hydraulic components of the operating mechanism of the CSX Transportation Railroad Bascule Span Bridge across the Pascagoula River, mile 1.5, at Pascagoula, Jackson County, Mississippi. This temporary deviation will allow the bridge to remain in the closed-to-navigation position from 8 a.m. to noon and from 1 p.m. to 6 p.m. on Monday, June 13, 2005, Wednesday, June 15, 2005, and Thursday, June 16, 2005. On Tuesday, June 14, 2005, the bridge will remain closed to navigation continuously from 8 a.m. until 6 p.m. to facilitate installation of a shaft. A temporary deviation was previously approved to complete these repairs in March 2005; however, the required replacement parts were unavailable. The bridge owner has obtained all of the required parts and is now ready to complete the repairs. The repairs are necessary for continued safe operation of the draw span.

As the bridge has no vertical clearance in the closed-to-navigation position, vessels will not be able to transit through the bridge site when the bridge is closed. Navigation on the waterway consists of small cargo ships, tugs with tows, fishing vessels and recreational craft including sailboats and powerboats. Due to prior experience, as well as coordination with waterway users, it has been determined that this closure will not have a significant effect on these vessels.

In accordance with 33 CFR 117.35(c), this work will be performed with all due speed in order to return the bridge to normal operation as soon as possible. This deviation from the operating regulations is authorized under 33 CFR 117.35.

Dated: May 17, 2005.
Marcus Redford,
Bridge Administrator.

[FR Doc. 05-10276 Filed 5-23-05; 8:45 am]

BILLING CODE 4910-15-P